DEPARTMENT OF LABOR

Employment and Training Administration

Comment Request for Information Collection for the Workforce Investment Act (WIA) Adult and Dislocated Worker Programs Gold Standard Evaluation (WIA Evaluation); New Collection

AGENCY: Employment and Training Administration (ETA), Labor.

ACTION: Notice.

SUMMARY: The Department of Labor (Department), as part of its continuing effort to reduce paperwork and respondent burden, conducts a preclearance consultation program to provide the general public and Federal agencies with an opportunity to comment on proposed and/or continuing collections of information in accordance with the Paperwork Reduction Act of 1995 (PRA) [44 U.S.C. 3506(c)(2)(A)]. This program helps to ensure that required data can be provided in the desired format, reporting burden (time and financial resources) is minimized, collection instruments are clearly understood, and the impact of collection requirements on respondents can be properly assessed.

The Department notes that a Federal agency cannot conduct or sponsor a collection of information unless it is approved by the Office of Management and Budget (OMB) under the PRA and displays a currently valid OMB control number, and the public is not required to respond to a collection of information unless it displays a currently valid OMB control number. Also, notwithstanding any other provisions of law, no person shall be subject to penalty for failing to comply with a collection of information if the collection of information does not display a currently valid OMB control number (see 5 CFR 1320.5(a) and 1320.6).

This data collection request consists of follow-up surveys for a sample of WIA customers participating in the WIA Evaluation and data for use in estimating the costs of WIA services and training received by sample group members. In addition, it includes data for a supplemental study to learn about services to veterans, the services they receive, and their outcomes. Since the WIA Evaluation is excluding veterans from the net-impact study, this supplemental study provides the opportunity to analyze veterans' experiences in the 28 WIA Evaluation sites.

DATES: Written comments must be submitted to the office listed in the addresses section below on or before August 24, 2012.

ADDRESSES: Send comments to Eileen Pederson, Office of Policy Development and Research, Employment and Training Administration, U.S. Department of Labor, 200 Constitution Ave. NW., Room N-5641, Washington, DC 20210. Telephone number: (202) 693-3647 (this is not a toll-free number). Email address: pederson.eileen@dol.gov. Fax number: (202) 693-2766 (this is not a toll-free number).

SUPPLEMENTARY INFORMATION:

I. Background

Passage of WIA (Pub. L. 105-220) led to a major redesign of the country's workforce system. WIA programs serve more than 6 million people annually at a cost of over $3 billion (U.S. Department of Labor, Fiscal Year 2012 Budget in Brief). Among its goals, WIA aims to bring formerly fragmented public and private employment services together in a single location within each community, make them accessible to a wider population than did prior employment services and training, empower customers with greater ability to choose from services and training options, and provide localities greater local flexibility in using funds and greater accountability for customers' employment outcomes.

Congress mandated in Section 172 of the WIA legislation that the Secretary of Labor conduct at least one multi-site control group evaluation. Accordingly, the Department is undertaking the WIA Evaluation to provide rigorous, nationally representative estimates of the net-impacts of WIA intensive services and training. Intensive services involve substantial staff assistance and include assessments, counseling, and job placement. Training includes education and occupational skills—building. This evaluation will offer policymakers, program administrators, and service providers information about the relative effectiveness of services and training, how the effectiveness varies by target population, and how the services and training are provided. The study will also produce estimates of the benefits and costs of WIA intensive services and training. The Department contracted with Mathematica Policy Research and its subcontractors—Social Policy Research Associates, MDRC, and the Corporation for a Skilled Workforce—to conduct this evaluation.

The WIA Evaluation was launched in November 2011 when seven local Workforce Investment Areas (LWIAs) began customer intake. By August 2012, all 28 of the evaluation's LWIAs will be enrolling customers into the evaluation. For most sites, the sample intake period will last between 12 and 18 months. The length of the intake period was determined in consultation with the local Workforce Investment Board and/or LWIA administrators WIA customers who are eligible for intensive services will be randomly assigned to one of three groups: (1) The full-WIA group—adults and dislocated workers in this group can receive any WIA service for which they are eligible; (2) the core-and-intensive group—adults and dislocated workers in this group can receive any WIA intensive services for which they are eligible, but not training; and (3) the core-only group—adults and dislocated workers in this group can receive only core services and no WIA intensive services or training. Customers who do not consent to participate in the study will be allowed to receive core services only for the duration of the study intake period in the respective LWIA.

Based on estimates using recent data, approximately 68,000 WIA adult and dislocated worker customers will be randomly assigned to the evaluation—about 64,000 customers to the full-WIA group and 2,000 customers to each of the restricted-service groups. All 4,000 members of the restricted-service groups and a random sample of 2,000 customers in the full-WIA group will be asked to complete two follow-up surveys.

The WIA Evaluation will address the following research questions:

1. Does access to WIA intensive services, alone or in conjunction with WIA-funded training, lead adults and dislocated workers to achieve better educational, employment, earnings, and self-sufficiency outcomes than they would achieve in the absence of access to those services?

2. Does the effectiveness of WIA vary by population subgroup? Is there variation by sex, age, race/ethnicity, unemployment insurance receipt, prior education level, previous employment history, adult and dislocated worker status, and veteran and disability status?

3. How does the implementation of WIA vary by LWIA? Does the effectiveness of WIA vary by how it is implemented? To what extent do implementation differences explain variations in WIA's effectiveness?

4. Do the benefits from WIA intensive services and training exceed program costs? Do the benefits of intensive services exceed their costs? Do the benefits of training exceed its costs? Do the benefits exceed the costs for adults? Do the benefits exceed the costs for dislocated workers?

An initial package, approved in September 2011 (OMB No. 1205-0482), received clearance for the customer intake process which included: a form to check the study eligibility of the customer; a customer study consent form (indicating the customer's knowledge of the evaluation and willingness to participate); the collection of baseline data through a study registration form; and a contact information form. The package also included site visit guides for the collection of qualitative information on WIA program processes and services.

Subsequent to receiving OMB approval for qualitative data collection during site visits to the 28 LWIAs participating in the study and because veterans are excluded from the net-impact study, ETA, in consultation with the Department's Veterans' Employment and Training Service and OMB, decided to collect additional qualitative and quantitative data in order to analyze veterans' experiences in the 28 WIA Evaluation sites.

This package requests clearance for the three remaining data collection efforts for the evaluation:

• Two follow-up surveys to be conducted at 15 and 30 months after random assignment, with a sample of WIA customers included in the evaluation; and

• A cost data collection package consisting of three forms—a program costs questionnaire, a staff activity log, and a resource room sign-in sheet—for use in estimating the costs of WIA services and training received by sample members.

• The Veterans' Supplemental Study, consisting of qualitative and quantitative data collected on veterans served at the 28 LWIAs participating in the WIA Evaluation. The study will add questions and several activities to the WIA Evaluation's second round of implementation study site visits to the 28 LWIAs. The supplemental study's qualitative component will address seven additional research questions:

1. How do veterans learn about available services in the One-Stop Career Centers?

2. What are the procedures for orienting and enrolling veterans into services, including WIA and Wagner-Peyser, and how do they differ from procedures for nonveteran customers?

3. How do One-Stop Career Center staff members operationalize veterans' priority of service for WIA and Wagner-Peyser services?

4. How do the Disabled Veterans' Outreach Program (DVOP) specialists and Local Veterans' Employment Representatives (LVERs) coordinate to provide services to veterans, and how do these staff members interact with other One-Stop Career Center staff?

5. What services are provided to veterans through the One-Stop Career Center?

6. What issues do staff face in providing services to veterans, and how do they differ from nonveteran customers?

7. What innovative or promising practices have states or local areas implemented to provide employment and training services to veterans?

In addition to the quantitative data collection for the Veterans' Supplemental Study, two sets of administrative data that states report to the Department will be analyzed: The WIA Standardized Record Data (WIASRD) and Wagner-Peyser data. Because the data is already reported to the Department, there is no additional burden associated with this data collection.

Follow-up surveys. The follow-up surveys will collect data on customers' receipt of services and customer outcomes on attainment of education credentials, labor market success, and family self-sufficiency. The surveys will be administered by telephone to 6,000 study participants—all 2,000 members of each of the core-only and core-and-intensive groups and 2,000 randomly selected study participants in the full-WIA group. These data will be used to estimate the impacts of WIA intensive services and training. The first and second follow-up surveys are similar in the questions they will ask; they differ only in the reference period. The first survey asks about months 1-15 following random assignment and the second survey asks about the next 15 months (months 16-30). If a sample member does not respond to the first survey, the second survey will ask about all 30 months since random assignment.

Cost data collection package. The benefit-cost analysis of intensive services and training requires data on the costs of the services received by sample members. Data on the quantity of services received will be obtained primarily from the follow-up surveys. Data on the cost of each service will be obtained from the sites by requesting that LWIA staff complete a program cost questionnaire, a front-line staff activity log, and administer resource room sign-in sheets.

• Program cost questionnaire. LWIA administrative staff will complete these detailed questionnaires on the salaries and fringe benefits of all staff in the local area whose salary is paid at least in part by WIA. This includes administrative/executive staff, managers and supervisors, front-line staff, and administrative assistants.

• Front-line staff activity log. The front-line staff activity log will collect information on what activities counselors engage in on a typical day. Counselors will use a template to record their activities using a set of pre-specified codes for each activity for one week. This information will be used to estimate the average preparation and follow-up time associated with one-on-one meetings with customers, time spent in resource rooms, and time spent in workshops and peer support groups.

• Resource room sign-in sheets. To calculate the average cost per visit to the resource room, the study will collect information on the number of people who use the resource room. For One-Stop Career Centers that already collect this information, the study will request it from all centers in the local area. However, for centers that do not already collect this information, or do not collect it in a way that can be used by the study, the study will provide a resource room sign-in sheet for each of the LWIA's One-Stop Career Centers.

Veterans' Supplemental Study. During site visits to all 28 sites participating in the WIA Evaluation, interviews about services to veterans will be conducted with One-Stop Career Center staff working with veteran customers. These staff members include DVOP specialists, LVERs, and WIA and Employment Service (ES) staff. In addition, the study team will interview the state veterans coordinators in the 19 states represented in the WIA Evaluation.

Eight of the 28 sites will be purposively selected for additional data collection activities to learn about the services veterans receive through the public workforce investment system and their experiences. The eight sites will be selected based on two factors: the number of veterans served by the LWIA; and evidence of particularly promising or innovative practices. In these sites, a focus group of 6-to-86 veterans who have received services at the One-Stop Career Center in the past 6 months will be convened so that site visitors may speak directly with veterans to learn about the services they received and the programs in which they participated, and to obtain more detail about their experiences and their impressions of those experiences.

Case files of three of the focus group participants at each site will be selected for review. The review will illustrate how veteran customers receive services through the One-Stop Career Center system. For both these activities, a diverse group of veterans representing a range of backgrounds and experiences will be selected. They will be a mix of male and female veterans, pre- and post-9/11 veterans, and veterans with and without service-connected disabilities.

Second, the Veterans' Supplemental Study will analyze LWIA administrative data reported by states as part of WIASRD and Wagner-Peyser data system. For the 28 LWIAs, this quantitative component of the study will explore the characteristics, services received, and outcomes of veterans who receive services through the public workforce system.

II. Desired Focus of Comments

Currently, the Department is soliciting comments concerning the above data collections. Comments are requested which:

• Evaluate whether the proposed collection of information is necessary for the proper performance of the functions of the agency, including whether the information will have practical utility;

• Evaluate the accuracy of the agency's estimate of the burden of the proposed collection of information, including the validity of the methodology and assumptions used; and

• Enhance the quality, utility, and clarity of the information to be collected; and minimize the burden of the information collection on those who are to respond, including the use of appropriate automated, electronic, mechanical, or other technological collection techniques or other forms of information technology, e.g., permitting electronic submissions of responses.

III. Current Actions

At this time, the Department is requesting clearance for the WIA Evaluation's 15- and 30-month follow-up surveys, the collection of cost data, and the collection of information on veterans' services through staff interviews and focus groups of veterans served by the workforce investment system.

Type of Review: New collection.

Title of Collection: WIA Adult and Dislocated Worker Programs Gold Standard Evaluation.

OMB Number: 1205-0NEW.

Affected Public: Public workforce system administrators and staff, low-income, disadvantaged adults and dislocated workers, and veterans who have received services from One-Stop Career Centers.

Cite/Reference/Form/etc: Workforce Investment Act of 1998, Section 172 (Pub. L. 105-220).

Annual Burden Estimates for WIA Evaluation Follow-Up Surveys, Cost Data Collection, and Veterans Supplemental Study
Activity | Number of respondents ¹ | Responses per respondent | Average time per response | Total respondent burden (hours) ²
Follow-Up Surveys
15-Month Follow-Up Survey | 2,460 | 1 | 40 minutes | 1,640
30-Month Follow-Up Survey | 2,460 | 1 | 30 minutes | 1,230
Cost Data Collection
Program Costs Questionnaire | 28 | 1 | 720 minutes (12 hours) | 336
Front-Line Staff Activity Log | 336 | 1 | 75 minutes (1.25 hours) | 420
Resource Room Sign-in Sheets | 10,000 | 1 | 0.5 minutes | 83
| Veterans Supplemental Study
WIA/ES Staff Interviews | 168 | 1 | 20 minutes | 56
DVOP/LVER Staff Interviews | 56 | 1 | 60 minutes | 56
State Veteran Coordinator Interviews | 19 | 1 | 60 minutes | 19
Staff Preparation for Focus Groups | 8 | 1 | 60 minutes | 8
Focus Groups—Veterans | 56 | 1 | 60 minutes | 56
Annual Total Burden |  |  |  | 3,896
¹ Attempts will be made to complete interviews with 6,000 sample members in each wave of the follow-up surveys (at 15- and 30-months). To achieve the targeted response rate of 82 percent, we expect to complete interviews with 2,460 sample members for each survey each year. Each follow-up survey will be fielded over a 2-year period.
² Numbers may not be exact due to rounding.

Follow-Up Surveys. Each of the two evaluation follow-up surveys will be administered once to each respondent. The surveys were designed to take an average of 40 minutes to complete using computer-assisted telephone interviewing for the 15-month follow-up survey, and 30 minutes for the 30-month follow-up survey. Therefore, the total annual burden to conduct the 15-month follow-up survey is 1,640 hours (= 4,920 interviews ÷ 2 years × ⅔ hours per interview), and 1,230 hours to conduct the 30-month follow-up survey (= 4,920 interviews ÷ 2 years × 0.5 hours per interview).

Cost Data Collection. Each of the program cost questionnaires will be administered once to each of the 28 sites participating in the WIA evaluation. The total annual burden for collection of cost data is 336 hours (= 28 sites × 12 hours per questionnaire). The front-line activity logs will be completed by 12 front-line staff in each of the 28 sites participating in the WIA evaluation. The total annual burden for completing the front-line activity logs will be 420 hours (= 12 staff × 28 sites × 75 minutes ÷ 60 minutes). The resource room sign-in sheets will be completed by 10,000 individuals accessing services in the 28 sites participating in the WIA Evaluation. Signing into the resource room will take an estimated 30 seconds (.5 minute) per respondent. Thus, the total annual burden for the resource room sign-in sheets will be 83 hours (= 10,000 respondents × 0.5 minutes ÷ 60 minutes).

Veterans' Supplemental Study. The interviews with WIA and ES staff will be conducted once with 6 staff in each of the 28 sites for an expected 20 minutes per interview. Therefore, the total annual burden will be 56 hours (= 6 staff × 28 sites × 20 minutes ÷ 60 minutes). The interviews with DVOP/LVER staff will be conducted once with 2 staff in each of the 28 sites for an expected 60 minutes per interview. The total annual burden will be 56 hours (= 2 staff x 28 sites x 60 minutes ÷ 60 minutes). The interviews with state veteran coordinators will be conducted once with 1 coordinator in each of 19 states with LWIAs participating in the evaluation and are expected to be 60 minutes per interview. The total annual burden will be 19 hours (= 1 staff × 19 states × 60 minutes ÷ 60 minutes). The staff preparation for veteran focus group discussions in 8 LWIAs will last 60 minutes per site. The total annual burden will be 8 hours (= 8 sites × 60 minutes ÷ 60 minutes). The focus groups with an average of 6-to-8 veteran respondents in 8 sites will last an estimated 60 minutes. The total annual burden for veterans focus group discussions will be 56 hours (= 7 focus group discussants × 8 sites × 60 minutes ÷ 60 minutes). The total annual burden estimate for collection in this package is estimated to be 3,896 hours.

Comments submitted in response to this request will be summarized and/or included in the request for OMB approval; they will also become a matter of public record.

Signed at Washington, DC, this 19th day of June 2012.
Jane Oates,
Assistant Secretary for Employment and Training.

[FR Doc. 2012-15417 Filed 6-22-12; 8:45 am]

BILLING CODE 4510-FN-P